NUCLEAR REGULATORY COMMISSION

Regulatory Guide; Issuance, Availability

The U.S. Nuclear Regulatory Commission (NRC) has issued a revision of a guide in its Regulatory Guide Series. This series has been developed to describe and make available to the public such information as methods acceptable to the NRC staff for implementing specific parts of the NRC's regulation, techniques used by the staff in evaluating specific problems or postulated accidents, and data needed by the staff in its review of applications for permits and licenses.

Revision 32 of Regulatory Guide 1.84, “Design, Fabrication, and Materials Code Case Acceptability, ASME Section III,” contains comprehensive guidance on all Section III Code Cases, including those oriented to materials and related testing in Division 1.

With the issuance of Revision 32 to Regulatory Guide 1.84, Regulatory Guide 1.85, “Materials Code Case Acceptability, ASME Section III, Division 1,” is being withdrawn because the guidance in Regulatory Guide 1.85 has been updated and incorporated into Revision 32 of Regulatory Guide 1.84.

Comments and suggestions in connection with items for inclusion in guides currently being developed or improvements in all published guides are encouraged at any time. You may submit comments by any one of the following methods. Comments may be accompanied by relevant information or supporting data. Written comments may be submitted by mail to the Rules and Directives Branch, Office of Administration, U.S. Nuclear Regulatory Commission, Washington, DC 20555-0001; or they may be hand-delivered to the Rules and Directives Branch, Office of Administration, at 11555 Rockville Pike, Rockville, MD. Copies of comments received may be examined at the NRC's Public Document Room, 11555 Rockville Pike, Rockville, MD.

You may also provide comments via the NRC's interactive rulemaking web site through the NRC home page (http://www.nrc.gov). Regulatory guides are available for inspection at the NRC's Public Document Room, 11555 Rockville Pike, Rockville, MD; the PDR's mailing address is USNRC PDR, Washington, DC 20555-0001; telephone (301) 415-4737 or (800) 397-4209; fax (301) 415-3548; e-mail pdr@nrc.gov. Requests for single copies of draft or final regulatory guides (which may be reproduced) or placement on an automatic distribution list for single copies of future draft guides in specific divisions should be made in writing to the U.S. Nuclear Regulatory Commission, Washington, DC 20555-0001, Attention: Reproduction and Distribution Services Section, or by fax to (301) 415-2289; e-mail distribution@nrc.gov. Telephone requests cannot be accommodated. Regulatory guides are not copyrighted, and NRC approval is not required to reproduce them. (5 U.S.C. 552(a))

Dated at Rockville, Maryland, this 10th day of June, 2004.
For the Nuclear Regulatory Commission.
Carl J. Paperiello,
Director, Office of Nuclear Regulatory Research.

[FR Doc. 04-13751 Filed 6-17-04; 8:45 am]

BILLING CODE 7590-01-P